DEPARTMENT OF HEALTH AND HUMAN SERVICES

Office of the Secretary

[Account Number: 4154-05]

Assistant Secretary for Planning and Evaluation; Notice Inviting Applications for New Awards for a National Poverty Research Center and Area Poverty Research Centers for Fiscal Year 2002

AGENCY: The Office of the Assistant Secretary for Planning and Evaluation (ASPE), HHS.

ACTION: Announcement of the availability of funds and request for applications for a cooperative agreement to establish a National Poverty Research Center and Area Poverty Research Centers.

SUMMARY: ASPE plans to fund one National Poverty Center and three Area Poverty Centers. The National Poverty Center will plan and conduct a broad program of policy research and mentoring of emerging scholars to describe and analyze national, regional and state environment (e.g., economics, demographics) and policies affecting the poor, particularly those families with children who are poor or at-risk of being poor. This research and evaluation program will focus on important and emerging social policy issues associated with the nature, causes, correlates, and effects of income dynamics, poverty, individual and family functioning and child well-being.

The Area Poverty Centers cooperative agreements are for qualified institutions to provide a focused agenda expanding our understanding of the causes, consequences and effects of poverty in local geographic areas or specific substantive areas, especially in states or regional areas of high concentrations of poverty. These cooperative agreements are intended to create a research opportunity for scholars and institutions otherwise unlikely to participate extensively in HHS programs to support the Nation's poverty research effort. It is anticipated that investigators supported under the Area Poverty Centers will benefit from the opportunity to conduct independent research; that the grantee institutions will benefit from participation in the diverse extramural programs of HHS; and that students will benefit from exposure to and participation in research and be encouraged to pursue graduate studies and careers in the social and behavioral sciences with a focus on poverty.

Closing Date: The closing date for submitting applications under this announcement is August 19, 2002. Please email Audrey Mirsky-Ashby at Audrey.Mirsky-Ashby@hhs.gov by July 18, 2002 to inform the government of your intent to submit an application. Include the name of your organization and whether you are competing for the National Center award or for an Area Center award. Providing notice of intent to submit is not a requirement for submitting an application. However, a notice of intent to submit will help the federal government in the planning for the review process.

ADDRESSES: The National Institute of Child Health and Human Development (NICHD) will be servicing these grants for ASPE. Applications should be submitted to Michael J. Loewe, Deputy Grants Management Officer, Grants Management Branch, National Institute of Child Health and Human Development, U.S. Department of Health and Human Services, 6100 Executive Boulevard, Room 8A01, Bethesda, Maryland 20892-7510 (Regular Mail), Rockville, Maryland 20852 (Express Mail), Phone: (301) 435-6995. Administrative questions will be accepted and responded to up to ten working days prior to closing date of receipt of applications.

You will receive email confirmation to notify you that your application was received within 14 days of the closing date. If you do not receive confirmation within 14 days of the closing date, please contact Michael J. Loewe at the address provided above.

The printed Federal Register notice is the only official program announcement. Any corrections to this announcement will be published in the Federal Register as well as published on the ASPE World Wide Web Pages at http://aspe.hhs.gov/funding.htm. Although reasonable efforts are taken to assure that the files on the ASPE World Wide Web Page containing electronic copies of this Program Announcement are accurate and complete, they are provided for information only. The applicant bears sole responsibility to assure that the copy downloaded and/or printed from any other source is accurate and complete.

FOR FURTHER INFORMATION CONTACT: Administrative questions should be directed to Michael Loewe at the address or phone number listed above. Technical questions should be directed to Don Oellerich, HHS, Office of Human Services Policy, Telephone: (202) 690-6805. Written technical questions should be addressed to Dr. Oellerich at the Department of Health and Human Services, ASPE/HSP, 200 Independence Avenue, SW., Room 404E, Hubert H. Humphrey Building, Washington, DC 20201 or faxed to 202-690-6562. If you send your question in writing, please call to confirm receipt. Technical questions will be accepted and responded to up to ten working days prior to the closing date of receipt of applications.

SUPPLEMENTARY INFORMATION: This program announcement consists of four parts:

Part I: Background—Legislative authority, Eligible Applicants, Project History and Purpose, Available Funds, Matching Requirements, and Project and Budget Period; Part II: Awardee Responsibilities for the National Poverty Research Center, Awardee Responsibilities for the Area Poverty Research Centers, ASPE Responsibilities, Joint Responsibilities, Arbitration Procedures, Rights to Data; Part III: The Review Process—Intergovernmental Review, Initial Screening, Competitive Review and Evaluation Criteria; Part IV: The Application—General Information, Application Development—The National Center, Application Development—Area Poverty Centers, Application Submission, Disposition of Applications, Catalog of Federal Domestic Assistance (CFDA) Number, and Components of a Complete Application.

Part I. Background

A. Legislative Authority

This cooperative agreement is authorized by Section 1110 of the Social Security Act (42 U.S.C. 1310) and awards will be made from funds appropriated under Public Law from funds appropriated under the Departments of Labor, Health and Human Services, and Education, and Related Agencies Appropriations Act, 2002 (Public Law 107-116).

B. Eligible Applicants

For the National Poverty Research Center (also referred to as the National Center) the Department seeks applications from universities or other post-secondary degree granting entities. (For-profit organizations are advised that no cooperative agreement funds may be paid as profit to any recipient of a grant or subgrant. Profit is any amount in excess of allowable direct and indirect costs of the grantee). Eligible applicants for Area Poverty Research Centers (also referred to as the Area Centers) are restricted to colleges and universities offering baccalaureate or advanced degrees in the social and behavioral sciences. Scholars and researchers working in Area eligible institutions located in geographic areas where poverty is prevalent and concentrated are encouraged to participate in this program.

C. Project History and Purpose

These awards (cooperative agreements) replace the current cooperative agreements with the Joint Center for Poverty Research (JCPR) at Northwestern University and the University of Chicago, and the Institute for Research on Poverty (IRP) at the University of Wisconsin. The mission of the poverty centers includes (1) expanding the knowledge of the causes and consequences of poverty as well as policy responses to ameliorate poverty and its impacts on Americans, (2) providing a core of multidisciplinary researchers, as well as a national network of scholars who focus their research on poverty and the poor (3) developing and training of future social science researchers whose work focuses on poverty and the poor, (4) continuation of work on the improvement of methods and data to permit a fuller understanding of the causes and consequences of poverty and the social policies and programs meant to alleviate it, and (5) maintaining a network for the dissemination of findings to the policy and research communities through newsletters, working papers, special reports and briefings. (Information on the current centers is available on their respective websites: www.jcpr.org and www.ssc.wisc.edu/irp) We expect the Centers funded under this announcement to provide leadership through innovative basic and applied research, long-term policy options and evaluation, and mentoring to increase the number and diversity of poverty scholars. The winning applicant(s) will be expected to carry out a program that continues a strong scholarly tradition and concern for poverty. There are no specific projects that must be continued from the current Centers under this award.

D. Available Funds

The Assistant Secretary has available a total of $2,000,000 for the first year of awards for a national poverty research center and for the area poverty research centers. ASPE anticipates providing approximately one award of approximately $1 million for a National Poverty Research Center and three awards of between $300,000 and $400,000 each for the Area Poverty Research Centers. If additional funding becomes available in fiscal year 2002, other centers may be funded. Although multiple awards are anticipated, nothing in this announcement restricts the ability of the Assistant Secretary for Planning and Evaluation to make one award or to make lesser award(s).

E. Matching Requirements

Awardees must provide at least 5 percent of the total approved cost of the project. The total approved cost of the project is the sum of the federal share and the nonfederal share. The non-federal share may be met by cash or in-kind contributions, although applicants are encouraged to meet their matching requirements through cash contributions. For example, an awardee with a project with a total budget (both direct and indirect costs) of $400,000 may request up to $380,000 in federal funds. Matching requirements cannot be met with funds from other federally-funded programs.

If a proposed project activity has approved funding support from other funding sources, the amount, duration, purpose, and source of the funds should be indicated in materials submitted under this announcement. If completion of the proposed project activity is contingent upon approval of funding from other sources, the relationship between the funds being sought elsewhere and from ASPE should be discussed in the budget information submitted as a part of the abstract. In both cases, the contribution that ASPE funds will make to the project should be clearly presented.

F. Project and Budget Period

ASPE expects to fund the National Poverty Research Center(s) for a period of five (5) years and the Area Poverty Research Centers for a period of three (3) years. The first year funding for national poverty research center will be up to $1,000,000 (combined direct and indirect funding). We expect a total funding of approximately $5 million over the five-year funding period. The first year of funding for Area Centers will be between $300,000 and $400,000 (combined direct and indirect funding). We expect a total funding of $3 million over the three-year period. Cooperative Agreements are assistance mechanisms and subject to the same administrative requirements as grants; however, they are different from both a grant and a contract. Compared to a grant, they allow more involvement and collaboration by the government in the affairs of the project, but provide less direction of project activities than a contract. The Terms of Award are in addition to, not in lieu of, otherwise applicable guidelines and procedures.

Applications are to include separate budget estimates for each of the five or three years, if they expect funding levels to be substantially different in subsequent years. Legislative support for continued funding of the Centers cannot be guaranteed and future year funding is subject to future appropriations and approval of the Assistant Secretary. ASPE expects, however, that the Centers will be supported during future fiscal years at an annual level of effort commensurate with the initial period.

The award pursuant to this announcement will be made on or about September 15, 2002.

Part II—Responsibilities of the Awardee and the Federal Government in the Establishment and Operation of a National Poverty Research Center and Area Poverty Research Centers

A. Awardee Responsibilities for the National Poverty Research Center

The Awardee should develop and conduct a program which appropriately balances core infrastructure, research, mentoring of emerging scholars, and dissemination activities directed to understanding the economic security and well-being of individuals, families and children. The Awardee should have the primary and lead responsibility to define objectives and approaches, and to plan research, conduct studies, analyze data, and publish results, interpretations, and conclusions of its work. Occasionally, Center staff will be expected to comment on research plans, provide critical commentary on research products, perform statistical policy analyses, and participate in other quick-response activities to support ASPE's research, evaluation, and policy analysis functions. (Without compromising academic freedom, Center staff will be expected to comply with special requests when the Administration requires confidentiality.) HHS will not interfere with nor infringe upon the academic freedom associated with the university setting.

To assure the quality of its research, dissemination, and mentoring program, and to assure a careful examination of the output of the Center within the academic community, the Center must establish and maintain a formal tie with a university, including links with all appropriate departments within that university. The Center must have a major presence at a single site (university or city); however, innovative arrangements among universities and with individual scholars at other universities also may be proposed. Particularly encouraged are arrangements with universities and researchers based in areas of high concentrations of poverty.

The program should focus on tracking and analyzing changes in state and national policies and their influences on individual, child, and family outcomes. Specifically, ASPE has identified five priority areas the applicant should address, at a minimum: (1) Strategies to encourage work, self-reliance, parental responsibility, community strengthening, and child well-being, (2) the changing labor market and its influence on low-income families with children, (3) nonmarital child-bearing, teen pregnancy, and healthy marriage, (4) health disparities across sub-populations, and (5) state and regional level policy, programs and interventions, particularly those targeted to geographic concentrations of the poor, to enhance self-sufficiency and well-being.

While these are ASPE priorities, applications also may address other important aspects of poverty, for example: the implications of health and disability status for poverty policy; concerns for the well-being of individual adults in poverty, and the interaction between income security programs, like welfare and tax credits, and service programs such as child care, child development, child welfare services, and education.

The overall program will develop and disseminate knowledge about these and related issues. Activities will include tracking, evaluating, and analyzing state and local government initiatives to reduce poverty, encourage economic mobility, and alleviate the ill effects of low income and family dysfunction. Activities also should examine alternative public and private approaches.

The awardee will perform the following specific tasks:

1. Research Program

The Center will be expected to plan, initiate and maintain a research program of high caliber. It must meet the tests of social science rigor and objectivity. The program will strive for respect from the academic and policy communities (over a broad range of the political spectrum) for its scientific quality, fairness, and policy relevance. This program should include an appropriately balanced agenda of basic and applied, quantitative and qualitative field work, and primary and secondary analyses. The research program should include supporting the work of members of the Center staff and other affiliated researchers. In addition, it should provide intellectual leadership in the national research community by establishing links with a broad range of other scholars, through visiting and postdoctoral appointments, research assistanceships, and an extramural program of nonresident grants. While graduates of the poverty center institutions can be found in many colleges and universities around the country and many maintain an affiliation with their Center, effort needs to be made to recruit and support outside poverty researchers from institutions that do not have the capacity to maintain a program of poverty research. It is important that applicants demonstrate clear plans to reach out to researchers at universities that traditionally have not had the capacity to foster a program of poverty research and the training of poverty researchers. In addition, awardees must commit to working cooperatively with the area centers funded under this announcement.

The research program should include multi-disciplinary and multi-method approaches to increasing the understanding of the issues beyond what is possible from analysis within the framework of a single discipline or method. At a minimum, the proposed staff should possess competency in quantitative and qualitative methodologies, economics, sociology, public policy/administration, and other related disciplines. Furthermore, it also is appropriate, for example, to engage in activities to make advances in research techniques, where they are needed for or related to primary objectives of the Center. Planning and execution of the research program shall always consider the policy implications of research findings in a non-partisan manner. The Center should link research to public and private efforts to improve the lives of low-income individuals and families. The research and its dissemination will be of value to all levels of policy making—federal, state, and local government—as well as the general research community. A national advisory committee (discussed below) should periodically review the research agenda to assure its policy relevance, utility, and scope.

2. Mentoring Emerging Scholars

The Center is expected to develop and expand a diverse corps of emerging scholars/researchers who focus their analytical skills on research and policy issues central to its mission. The Center will be expected to financially support the work of graduate research assistants, PhD candidates, postdoctoral scholars, and other research scholars, and to make efforts to reach out to those emerging scholars affiliated with institutions that traditionally have not had the capacity to mentor students as poverty researchers.

3. Dissemination

Making knowledge and information available to the academic and policy communities is to be another integral feature of the Center's responsibilities. The awardee will maintain a dissemination system of periodic newsletters, research papers, and occasional books intended both for the research and policy communities. In addition, the awardee will be expected to organize workshops, lectures, seminars, and other ways of sharing current research activities and findings. Applicants are encouraged to propose use of innovative methods of disseminating data and information. Applications should show a sensitivity to the different dissemination strategies which may be appropriate for different audiences—such as policy makers, practitioners, and academics.

B. Awardee Responsibilities for Area Poverty Research Centers

The purpose of the Area Poverty Research Centers is to support interdisciplinary research leading to an understanding and reduction of poverty, income inequality and its correlates. Applicants are invited to propose multi-level, integrated research projects that will shed light on the complex interactions of the social and physical environment, and mediating behavioral factors which determine poverty and income inequality. Area Centers are expected to create an environment conducive to interdisciplinary collaborations among social and behavioral scientists and affected communities with the goal of improving well-being of individuals, families and children. The successful applicant(s) should develop and conduct a program which appropriately balances core infrastructure, research, the mentoring of emerging scholars, and dissemination activities directed to understanding the well-being of individuals, families and children. Although not required, applicants are encouraged to take advantage of defined geographic areas of study and existing data.

ASPE has identified five priority areas the applicant may address: (1) Strategies to encourage work, self-reliance, parent responsibility, community strengthening, and child well-being, (2) the changing labor market and its influence on low-income families with children, (3) nonmarital child-bearing, teen pregnancy, and healthy marriage, (4) income inequality and health disparities across sub-populations, and (5) state- and local-level policy, programs and interventions, particularly those targeted to geographic concentrations of poverty, to enhance self-sufficiency and wellbeing. Applications also may address other important aspects of poverty such as the implications of health and disability status for poverty policy; concerns for the well-being of individual adults in poverty, and the interaction between income security programs, like welfare and tax credits, and service programs such as child care, child development, child welfare services, and education. Additional areas of interest to ASPE that applicants may want to consider include: Women and children, welfare and work; poverty and mental health; and resiliency. In addition to these priority areas identified for the national and area centers, applicants for area center awards may wish to focus more specifically on issues germane to their local environment and while these are ASPE priorities, applications also may address other important aspects of poverty. ASPE strongly encourages studies in state and regional areas of concentrated poverty.

The awardees will perform the following tasks:

1. Research Program

The Area Poverty Research Centers will be expected to plan, initiate and maintain a research program of high caliber. It may include small-scale, new or ongoing social, behavioral, and/or policy-related research projects, including pilot research projects and feasibility studies; development, testing, and refinement of research techniques; secondary analysis of available data sets; and similar research projects that demonstrate research capability. Each Center will be expected to carry out at least two projects, as well as develop or expand the Center's presence on campus and in the broader research community.

2. Mentoring Emerging Scholars

The Area Poverty Research Centers are expected to develop and expand a diverse corps of emerging scholars/researchers who focus career goals on policy, research and programs focused on poverty populations. The Area Poverty Research Centers will be expected to develop an awareness and interest in students of the opportunities in poverty policy and research through such activities as research internships, seminars and related experiences. Applicants should demonstrate how students will benefit from exposure to and participation in the ongoing research of Area Poverty Research Center faculty and staff and be encouraged to pursue graduate studies and careers in the social and behavioral sciences with a focus on poverty-related studies.

3. Dissemination

Making knowledge and information available to the academic and policy communities is to be another integral feature of the Area Poverty Research Center's responsibilities. It will be expected to develop and maintain a dissemination system. Applicants are encouraged to propose use of innovative methods of disseminating data and information. Applications should show a sensitivity to the different dissemination strategies which may be appropriate for different audiences—such as policy makers, practitioners, and academics.

C. ASPE Responsibilities

ASPE will be involved with each Center in jointly establishing broad research priorities and planning strategies to accomplish the objectives of this announcement. ASPE, or its representatives, will provide the following types of support to the Center: (1) Consultation and technical assistance in planning, operating, and evaluating the Center's program of research, mentoring and dissemination activities, (2) information about HHS programs, policies, and research priorities, (3) assistance in collaborating with appropriate federal, state and local governmental officials in the performance of program activities, (4) assistance in identifying HHS information and technical assistance resources pertinent to the Center's success, (5) assistance in the transfer of information to appropriate federal, state, and local entities, (6) review of Center activities and feedback to ensure that objectives and award conditions are being met, (7) ASPE will coordinate activities amongst the centers to ensure, to the extend possible, the optimal use of resources and expertise. APSE retains the right, however, to withhold annual renewals to the awardee, if technical performance requirements are not met.

D. Joint Responsibilities

Each awardee, jointly with ASPE, will appoint an outside advisory committee, funded under this agreement. Each committee will be selected to provide assistance to both the national center and each area center in formulating the research agenda and advice on carrying it out. Efforts will be made in selecting this committee to assure a broad range of academic disciplines and political viewpoints. For the national center the committee will be composed of approximately six to ten nationally recognized scholars and practitioners. (For a list of the current Advisory Committee members for the two Poverty Centers see their respective websites: http://www.jcpr.org <http://www.jcpr.org> and http://www.ssc.wisc.edu/irp <http://www.ssc.wisc.edu>.) This committee will meet once or twice a year rotating between Washington, DC and the Center location. For each area center, the committee will be made up of three to four scholars and practitioners and will include the director of the national center. It is expected that the area center's advisory committee will meet once a year.

E. Arbitration Procedures

Both parties are expected to work in a collegial fashion to minimize misunderstandings and disagreements. They should explore every alternative to prevent impasses, including consultation with the advisory committee established under section D., but agreement between the awardee and ASPE staff cannot be reached on significant programmatic or scientific-technical issues that might arise after the award, an arbitration panel should be formed. The panel will consist of one person appointed by the awardee, one person appointed by ASPE, and a third person appointed by these two members. The decision of the arbitration panel, by majority vote will be binding. These special arbitration procedures in no way affect the awardee's right to appeal an adverse action in accordance with HHS regulations at 45 CFR part 16.

F. Rights to Data

The awardee will retain custody of and have primary rights to the data developed under this award, subject to government rights to access consistent with current HHS and ASPE regulations. The awardee should make reasonable efforts, however, to provide other researchers appropriate and speedy access to research data from this project and establish public use files of research data developed under this award.

Part III. The Review Process

A. Intergovernmental Review

State Single Point of Contact (Executive Order 12372). The Department of Health and Human Services has determined that this program is not subject to Executive Order No. 12372, Intergovernmental Review of Federal Programs, because it is a program that is national in scope and the only impact on State and local governments would be through subgrants. Applicants are not required to seek intergovernmental review of their applications within the constraints of Executive Order 12372.

B. Initial Screening

Each application submitted under this program announcement will undergo a pre-review to determine that (1) the application was received by the closing date and submitted in accordance with the instructions in this announcement, (2) the applicant is eligible for funding (see Part I, Section B), and (3) is within the page limit (see Part IV, Section A). Note that applications exceeding the page limit will not be reviewed further and will be ineligible for funding.

C. Competitive Review and Evaluation Criteria

Applications for the National Center that pass the initial screening will be evaluated and rated by a panel of at least three independent experts on the basis of specific evaluation criteria, which are detailed below. Applications for the Area Centers that pass the initial screening will be evaluated and rated by a federal review panel. The panel will use the evaluation criteria listed below to score each application. The evaluation criteria were designed to assess the quality of the proposed project and to determine the likelihood of its success. The evaluation criteria are closely related and are considered as a whole in judging the overall quality of an application. Points are awarded only to applications that are responsive to the evaluation criteria within the context of this program announcement. These review results will be the primary element used by the ASPE in making funding decisions. HHS reserves the option to discuss applications with other federal or state staff, specialists, experts, and the general public. Comments from these sources, along with those of the reviewers, will be kept from inappropriate disclosure and may be considered in making an award decision.

Selection of the successful applicant(s) will be based on the technical and financial criteria laid out in this announcement. Reviewers will determine the strengths and weaknesses of each application in terms of the evaluation criteria listed below, provide comments and assign numerical scores—out of a possible 100 points. The review panel will prepare a summary of all applicant scores and strengths/weaknesses and recommendations and submit it to the ASPE for final decisions on the award. The point value following each criterion heading indicates the maximum numerical relative weight that each section will be given in the review process. An unacceptable rating on any individual criterion may render the application unacceptable. Consequently, applicants should take care to ensure that all criteria are fully addressed in the applications.

Applications will be reviewed using the following evaluation criteria. Note that there are separate criteria for the National Center and the Area Centers. Please be sure to refer to Part IV, section B, application development.

Evaluation Criteria for the National Center

(1) Quality of the Staffing Proposal and Proposed Organizational Arrangements (30 points)

Reviewers will judge applicant's director/principal investigator and staff on research experience, demonstrated research skills, administrative skills, public administration experience, and relevant technical expertise. Raters may consider references on prior research projects. Director and staff time commitments to the Center also will be a factor in the evaluation. Whether the applicant can maintain a single location for research, teaching, and scholarship is an important consideration. Furthermore, reviewers will rate the applicant's pledge and ability to work in collaboration with other scholars in search of similar goals, especially the area centers. Applicants will be judged on the nature and extent of the organizational support for research, mentoring scholars, and dissemination in topical areas related to the Center's central priorities. Applicants will be judged on their plans to reach out to researchers at universities that traditionally have not had the capacity to foster a program of poverty research and the training of poverty researchers. In addition, awardees must commit to working cooperatively with the area centers funded under this announcement. Reviewers will evaluate the commitment of the university (and proposed institutional unit that will contain the Center) to assess its ability to support all three major Center activities: (1) Scholarly, policy relevant research including plans for an extramural research program; (2) the mentoring and development of emerging scholars interested in poverty, families, children, and public policy; and (3) dissemination of research and other information to a broad and disparate set of academic, research, and policy communities. Reviewers also will evaluate the applicant's demonstrated capacity to work with a range of government agencies.

(2) Quality of the Research Agenda (30 points)

Reviewers will judge this section on the basis of whether the research agenda is scientifically sound and policy relevant. They also will consider whether the applicant is likely to make significant contributions to understanding poverty, families, child outcomes, and what governments can do to make the lives of adults, children and families more secure, healthier, and open to opportunity, and whether the approach extends beyond and builds upon the past 35 years of poverty research. The discussion and research proposed must address the major themes of this announcement (Strategies to encourage work, self-reliance, parental responsibility, community, and child well-being; the changing labor market and its influence on low-income families with children; nonmarital child-bearing, teen pregnancy, and healthy marriage; health disparities; and state and regional level policy, programs and interventions, particularly those targeted to geographic concentrations of the poor, to enhance self-sufficiency and well-being). Concise plans for research projects in the near term (one or two years) as well as a five-year agenda are important. Reviewers will rate applications on their plans to conduct policy-relevant research and interact with various levels of government to research and evaluate significant government initiatives and policies in a nonpartisan manner. In addition, applicants also will be judged on their dissemination plans—including convening conferences and workshops and communicating with a broad audience of academics, policymakers, and practitioners. Applicants will also be judged on the extent to which the proposed application addresses issues related to the concentration of poverty.

(3) Training and Mentoring Emerging Scholars (20 points)

The applicant evaluation will consider proposed efforts to develop and expand a diverse corps of emerging scholars and researchers. The ratings will consider the proposed mentoring and support given to graduate research assistants, PhD candidates, postdoctoral students, and other research scholars. The evaluation will include an assessment of plans to integrate the training of research scholars and expose them to policy research activities at ASPE. Reviewers will consider efforts to reach emerging scholars at institutions that have not had the capacity to mentor students as poverty researchers.

(4) Appropriateness of the Budget To Carry out the Planned Staffing and Activities (20 points)

Ratings will consider whether: (a) The budget assures an efficient and effective allocation of funds to achieve the objectives of this solicitation, (b) the applicant has additional funding from other sources, including the host institution. When additional funding is contemplated, applicants should note whether the funding is being donated by the institution, is in-hand from another funding source, or will be applied for from another funding source. Information concerning how the applicant will meet the matching requirement will be evaluated. The budget should include travel for advisory board members.

Evaluation Criteria for the Area Centers

(1) Approach (35 points)

Are the conceptual framework, design, methods, and analyses adequately developed, well-integrated, and appropriate to the aims of the project? Does the applicant acknowledge potential problem areas and consider alternative tactics? Does the applicant present an adequate proposal to interest students in graduate studies or careers in poverty-related work, especially in geographic areas of concentrated poverty? Does the application make clear the procedures for the protection of human subjects?

(2) Significance (20 points)

Does this study(ies) address an important problem? If the aims of the application are achieved, how will knowledge be advanced? What will be the effect of these studies on the concepts or methods that drive this field? Will projects focus on areas of state or regional concentrations of poverty?

(3) Qualifications of Principal Investigator and Mentoring (20 points)

Is the principal investigator appropriately trained and well suited to carry out this work? Is the work proposed appropriate to the experience level of the principal investigator and other researchers (if any)? Do the investigators have direct contact with students? The reviewers will consider proposed efforts to expose and engage students in poverty related research and encourage the pursuit of advanced studies and/or careers in public policy and programs which address the needs of the poverty population.

(4) Environment (15 points)

Does the proposed Area Center build upon an existing institutional infrastructure? Do the proposed studies take advantage of features of the community or employ useful collaborative arrangements? Is there evidence of institutional support? Does the Area Center have any outside funding?

(5) Adequacy and Appropriateness of Overall Budget and the Allocation of Resources Across Administrative, Research and Other Areas (10 points)

Ratings will reflect whether: (a) The budget assures an efficient and effective allocation of funds to achieve the objectives of this solicitation, (b) the applicant has additional funding from other sources, including the host institution. When additional funding is contemplated, applicants should note whether the funding is being donated by the institution, is in-hand from another funding source, or will be applied for from another funding source. Information concerning how the applicant will meet the matching requirement will be evaluated. The budget should include travel for advisory board members.

Part IV—The Application

A. General Information

This part contains information on the preparation of an application for submission under this announcement, the forms necessary for submission. Potential applicants should read this part carefully in conjunction with the information provided in Part II. In general, ASPE seeks organizations who can demonstrate the ability to provide quality policy research, training of emerging scholars, and working with federal, state and local governments. Applicants for funding should reflect, in the program narrative section of the application, how they will be able to fulfill the responsibilities and requirements described in the announcement. Applications for the National Center should specify in detail how administrative arrangements will be made to minimize start-up and transition delays. Applications which do not address all three major tasks discussed in Awardee Responsibilities in Part II (research program, mentoring emerging scholars, dissemination) will not be considered for award. The applicant must have experience working with governmental agencies—federal, state, or local. It is expected that the applicant will have additional funding and arrangements with other organizations and institutions, including the host institution(s). The applicant should make all current and anticipated related funding arrangements explicit in the application.

In order to be considered for an award under this program announcement, an application must be submitted on the forms supplied and in the manner prescribed by ASPE. Application materials including forms and instructions are attached to this announcement. Additional copies are available from Michael J. Loewe or may be obtained electronically from the ASPE world wide web site at http://www.ASPE.hhs.gov/programs/oa/form.htm. Each application package must include an original and two copies of the complete application. All pages of the narrative must be sequentially numbered and unbound.

Applications must be received in the following format:

1. 12 point font size

2. Double line spacing

3. 1 inch top, bottom, left, and right margins

4. Page limit of 100 pages for the National Center (excluding appendices); 50 pages for the Area Centers (excluding appendices)

5. Applications that are not received in the format described above and/or exceed the page limit, will not be reviewed. Applicants are requested to be concise. Applicants are encouraged not to attach or include bound reports or other documents.

B. Application Development—National Center

Content and Organization of Technical Application (see “Components of a Complete Application”). The application must begin with the required application forms and a three to five page overview and summary of the application. Staff resumes should be included in a separate appendix.

The national poverty center will provide a leadership role in furthering our understanding of the causes and consequences of poverty and the policy and program interventions to ameliorate poverty and its impacts on individuals, families and children. The national center will provide the organizational infrastructure to provide leadership in shaping a national agenda for poverty-related research and provide the necessary supports for basic and applied research, reaching out and supporting the broader research community, mentoring emerging scholars, dissemination of findings and securing additional financial support. The applicant should provide a five-year strategic plan for accomplishing this agenda. The plan should build upon and move forward from the accumulated knowledge of the past 35 years of poverty related research and past and future social, demographic, economic and policy trends. The plan should set out a concrete plan for addressing ASPE's priorities as well as additional areas of exploration that the applicant may propose.

The central core of the application is the strategic plan, and it must contain four sections, presented in the following order:

(1) Research Agenda

A prospectus for a five-year research agenda, outlining the major research themes to be investigated over the next five years, including the five listed in this announcement. In particular, the prospectus will describe the activities planned for each of the research priority issues outlined in Part II, Awardee Responsibilities and other additional priority research topics proposed by the applicant. The prospectus should discuss the kind of research activities that are needed to anticipate future policy debates on important social issues—poverty and child well-being, in particular—and the role of the proposed Research Center in carrying out those activities. The prospectus should clearly build upon the foundation of the past 35 years of poverty research and anticipated trends and policy developments. It may, of course, also discuss research areas and issues that were not mentioned in that analysis if the author or authors of the application feel there have been gaps in past research, or that new factors have begun to affect or soon will begin to affect national social policy. The prospectus should include descriptions of individual research projects that will be expected in the Center's first year of operation. It also should be specific about long-term research themes and projects. The lines of research described in the prospectus should be concrete enough that project descriptions in subsequent research plan amendments can be viewed as articulating a research theme discussed in the prospectus. An application that simply contains an ad hoc categorization of an unstructured set of research projects—as opposed to a set of projects which strike a coherent theme—will be judged unfavorably. Note: Once a successful applicant has been selected and the national Advisory Committee appointed, they and ASPE will review the research agenda and determine research priorities. The Center will submit to ASPE a revised research plan that summarizes the deliberations and priorities. The research plan will be periodically reviewed and revised as necessary. The application should discuss a proposed research planning process, including involvement of the national advisory committee and other advisors.

(2) Staff and Organizational Data

This application should include a staffing and organizational proposal for the Research Center, including an analysis of the types of background needed among staff members, the Center's organizational structure, and linkages with the host university and other organizations. It is in this second section that the application should specify how it will assure a genuinely interdisciplinary approach to research, and where appropriate, the necessary links to university departments, other organizations and scholars engaged in research, and government policy makers. The applicant should identify the director (or principal investigator) and key senior research staff. Full resumes of proposed staff members should be included as a separate appendix to the application. In addition, the author(s) of the application and the role which he or she (they) will play in the proposed Poverty Research Center must be specified. The time commitment to the Center and other commitments for each proposed staff member should be indicated. The kinds of administrative and tenure arrangements, if any, the applicant proposes to make should also be discussed in this section. The applicant should discuss the financial arrangements for supporting affiliates, resident scholars, etc. If the application envisions an arrangement of several universities or institutions, this section will describe the specifics about the relationships, including leadership, management, and administration. It should pay particular attention to discussing how a focal point for research, teaching, and scholarship will be maintained given the arrangement proposed. Briefly discuss the role, selection procedure, and expected contribution of the national advisory committee. The applicant should describe plans for outreach to the Area Centers in addition to discussing efforts to assure a smooth transition between the current National Poverty Centers and this project.

(3) Training and Mentoring Emerging Scholars

A training and mentoring proposal describing how students will benefit from exposure to and participation in the ongoing research of the area center faculty and staff and how students will be encouraged to pursue graduate studies in the social and behavioral sciences with a focus on poverty related studies. The applicant should discuss the financial arrangements for supporting research assistants, post-doctoral students, etc. The applicant should present any past experience and future plans for engaging emerging scholars from institutions that have not traditional had the capacity to mentor poverty scholars. The discussion should include the expected number and types of emerging scholars to be supported and the level of support anticipated.

(4) Budget Narrative

A budget summary narrative which links the core infrastructure, research, mentoring, outreach, and dissemination program to the Center funding level. This section should discuss how the five-year budget supports proposed research, training, and dissemination activities and should link the first year funding to a five-year plan. The discussion should include the appropriateness of the level and distribution of funds to the successful completion of the research, training, and dissemination plans. Given the limited amount of funds available for this award, applicants are encouraged to use these funds as partial, core support for the proposed Center and to seek additional support from other sources. The availability, potential availability or hope for other funds (from the host university, other universities, foundations, states, other federal agencies, etc.) and the uses to which they would be put, should be documented in this section. Applications which show funding from other sources that supplement funds from this grant will be given higher scores than if they have no extra financial support or a plan for securing such support.

C. Application Development—Area Poverty Centers

Content and Organization of Technical Application (see “Components of a Complete Application”). The application must begin with the required application forms and a three to five page overview and summary of the application. Staff resumes should be included in a separate appendix. The central core of the application must contain four sections, presented in the following order:

(1) Key Trends and Past Research Analysis

A brief analysis of the key trends (e.g., social, demographic, economic) and past research related to the area center's proposed focus which provides a basis for the proposed Area Center research agenda. It should examine the nature, causes, and correlates of one or two of the trends as they relate to the Area center's focus, as appropriate. The analysis should demonstrate the applicant's grasp of the policy and research significance of recent and future social trends as well as the past research.

(2) Research Agenda

A prospectus for a three-year research agenda, outlining the major research themes to be investigated over the next three years, including the five listed in this announcement. In particular, the prospectus will describe the activities planned for each of the research priority issues proposed by the Area Center; those either drawn from the listing of priority areas or proposed by the applicant. The prospectus should discuss the kind of research activities that will inform public policy in the priority issues selected and the role of the proposed Area Research Center in carrying out those activities. The prospectus should follow from the key trends and research analysis section. The prospectus should include detailed descriptions of the individual research projects that will be expected to be initiated in the Center's first year of operation; including the conceptual framework, design, data, methods and proposed analyses. It also should be specific about the longer-term research themes and projects. The lines of research described in the prospectus should be concrete enough that project descriptions in subsequent research plan amendments can be viewed as articulating a research theme discussed in the prospectus. An application that simply contains an ad hoc categorization of an unstructured set of research projects—as opposed to a set of projects which strike a coherent theme—will be judged unfavorably.

Note: Once a successful applicant has been selected ASPE will review the longer term research agenda with the Area Center and jointly determine future research priorities. The research plan will be periodically reviewed and revised as necessary. The application should briefly discuss a proposed research planning process, including involvement of an outside advisory committee and other advisors, and participation with other National and Area centers awarded as part of this grant program.

(3) Staff and Organizational Data

This application should include a staffing and organizational proposal for the Area Center, including an analysis of the types of background needed among staff members, the Area Center's organizational structure, and linkages with the host university and other organizations. It is in this third section that the application should specify how it will assure a genuinely interdisciplinary approach to research, and where appropriate, the necessary links to university departments, other organizations and scholars engaged in research, and government policy making. The applicant should identify the director (or principal investigator) and key senior research staff. Full resumes of proposed staff members should be included as a separate appendix to the application. The time commitment to the Area Center and other commitments for each proposed staff member should be indicated.

If the application envisions an arrangement of several universities or institutions, this section will describe the specifics about the relationships, including leadership, management, and administration. It should pay particular attention to discussing how a focal point for research, teaching, and scholarship will be maintained given the arrangement proposed. The application also should briefly discuss the role, selection procedure, and expected contribution of an outside advisory committee.

(4) Training and Mentoring Emerging Scholars

A training and mentoring proposal describing how students will benefit from exposure to and participation in the ongoing research of the Area Center faculty and staff and how students will be encouraged to pursue graduate studies in the social and behavioral sciences with a focus on poverty related studies. This section should discuss the financial arrangements for supporting students and research assistants, if any. The discussion should include the expected number and types of emerging scholars to be supported and the level of support anticipated.

(5) Budget Narrative

A budget summary narrative which links the core infrastructure, research, training, and dissemination program to the Center funding level. This section should discuss how the three-year budget supports proposed research, training, and dissemination activities and should link the first year funding to a three-year plan. The discussion should include the appropriateness of the level and distribution of funds to the successful completion of the research, training, and dissemination plans. Given the limited amount of funds available for this award, applicants are encouraged to use these funds as partial, core support for the proposed Center and applicant having or seeking additional support from other sources. The availability, potential availability or hope for other funds (from the host university, other universities, foundations, states, other Federal agencies, etc.) and the uses to which they would be put, should be documented in this section. We encourage applications to pursue or plan to pursue supplemental funding.

D. Application Submission

1. Mailed applications postmarked after the closing date will be classified as late.

2. Deadline. The closing (deadline) date for submission of applications is [insert 60 days Mailed applications should be considered as meeting the announced deadline if they are either received on or before the deadline date or sent on or before the deadline date and received by ASPE in time for the independent review to: Michael J. Loewe, Deputy Grants Management Officer, Grants Management Branch, National Institute of Child Health and Human Development, U.S. Department of Health and Human Services, 6100 Executive Boulevard, Room 8A01, Bethesda Maryland 20892-7510 (Regular Mail), Rockville Maryland 20852 (Express Mail), Phone: (301) 435-6995 Fax: (301) 402-0915.

Applicants must ensure that a legibly dated, machine produced postmark of a commercial mail service is affixed to the envelope/package containing the application. To be acceptable as proof of timely mailing, a postmark from a commercial mail service must include the logo/emblem of the commercial mail service company and must reflect the date the package was received by the commercial mail service company from the applicant. Private Metered postmarks should not be acceptable as proof of timely mailing. (Applicants are cautioned that express/overnight mail services do not always deliver as agreed.)

Applications hand-carried by applicants, applicant couriers, or by other representatives of the applicant should be considered as meeting an announced deadline if they are received on or before the deadline date, between the hours of 8 a.m. and 4:30 p.m. EST, at the U.S. Department of Health and Human Services, Grants Management Branch National Institute of Child Health and Human Development, U.S. Department of Health and Human Services, 6100 Executive Boulevard, Room 8A01 Bethesda Maryland 20892-7510 (Regular Mail), Rockville Maryland 20852 (Express Mail) ) The address must appear on the envelope/package containing the application with the note “Attention: ( Michael J. Loewe, Deputy Grants Management Officer “ (Applicants are cautioned that express/overnight mail services do not always deliver as agreed.)

Applications transmitted by fax or through other electronic means will not be accepted regardless of date or time of submission or receipt.

3. Late applications. Applications that do not meet the criteria above are considered late applications. NICHD should notify each late applicant that its application will not be considered in the current competition.

4. Extension of deadlines. NICHD may extend an application deadline when circumstances such as acts of God (floods, hurricanes, etc.) occur, or when there are widespread disruptions of the mail service, or in other rare cases. Determinations to extend or waive deadline requirements rest with Michael J. Loewe , Deputy Grants Management Officer, Grants Management Branch, National Institute of Child Health and Human Development.

C. Disposition of Applications

1. Approval, disapproval, or deferral. On the basis of the review of the application, the Assistant Secretary will either (a) approve the application as a whole or in part; (b) disapprove the application; or (c) defer action on the application for such reasons as lack of funds or a need for further review.

2. Notification of disposition. The Assistant Secretary for Planning and Evaluation will notify the applicants of the disposition of their applications. If approved, a signed notification of the award will be sent to the business office named in the ASPE checklist.

3. The Assistant Secretary's Discretion. Nothing in this announcement should be construed as to obligate the Assistant Secretary for Planning and Evaluation to make any awards whatsoever. Awards and the distribution of awards among the priority areas are contingent on the needs of the Department at any point in time and the quality of the applications that are received.

D. The Catalog of Federal Domestic Assistance Number

The Catalog of Federal Domestic Assistance Number is 93.239.

E. Components of a Complete Application

A complete application consists of the following items in this order:

1. Application for Federal Assistance (Standard Form 424);

2. Budget Information—Non-construction Programs (Standard Form 424A);

3. Assurances—Non-construction Programs (Standard From 424B);

4. Table of Contents;

5. Budget Justification for Section B Budget Categories;

6. Proof of Non-profit Status, if appropriate;

7. Copy of the applicant's Approved Indirect Cost Rate Agreement, if necessary;

8. Project Narrative Statement, organized in five sections, addressing the following topics (See Part IV, Section B):

(a) Key Trend Analysis

(b) Research Agenda Prospectus

(c) Staff and Organizational Data

(d) Summary of Past Work

(e) Budget Appropriateness

9. Any appendices or attachments;

10. Certification Regarding Drug-Free Workplace;

11. Certification Regarding Debarment, Suspension, or other Responsibility Matters;

12. Certification and, if necessary, Disclosure Regarding Lobbying;

13. Supplement to Section II—Key Personnel;

14. Application for Federal Assistance Checklist.

Dated: June 10, 2002.
William Raub,
Principal Deputy for Secretary for Planning and Evaluation.

[FR Doc. 02-15232 Filed 6-17-02; 8:45 am]

BILLING CODE 4110-60-P